DEPARTMENT OF ENERGY

Federal Energy Regulatory Commission

[Docket Nos. RP00-479-004 and RP00-624-004]

Trailblazer Pipeline Company; Notice Of Compliance Filing

April 15, 2004.

Take notice that on April 8, 2004, Trailblazer Pipeline Company (Trailblazer) tendered for filing as part of its FERC Gas Tariff, Third Revised Volume No. 1, the tariff sheets listed in Appendix A to the filing, with an effective date of December 1, 2003.

Trailblazer states that the purpose of this filing is to comply with the Commission's Letter Order issued March 24, 2004, in Docket Nos. RP00-479-003 and RP00-624-003.

Trailblazer states that copies of the filing have been mailed to all parties on the Commission's official service list.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-901 Filed 4-20-04; 8:45 am]

BILLING CODE 6717-01-P